Title 3—

The President

Proclamation 8220 of February 1, 2008

American Heart Month, 2008

By the President of the United States of America

A Proclamation

Heart disease is the number one killer of both men and women in the United States. As we observe American Heart Month, we renew our commitment to raising awareness of the serious impact of cardiovascular disease, and we encourage all citizens to take steps to help prevent it.

By exercising regularly, avoiding tobacco, limiting consumption of alcohol, following a nutritious diet, and monitoring high blood cholesterol and high blood pressure, we all can work to decrease the chances of developing cardiovascular disease. I urge all Americans to take advantage of regular screenings and consult their doctors about how to reduce their personal risk for heart disease.

In 2002, the National Heart, Lung, and Blood Institute, coordinating with other Federal agencies and national organizations, established the national campaign “The Heart Truth” to raise awareness among women of the dangers of cardiovascular disease. Today, more Americans are aware that it is the leading cause of death. The National Ambassador of “The Heart Truth” campaign, First Lady Laura Bush, continues to lead the Federal Government's efforts to send the urgent message to women about their risk for heart disease. Through this campaign, millions of women across the country have come to recognize the red dress as an important reminder to make healthy choices for their heart and encourage others to do the same.

During American Heart Month, we express our gratitude to the dedicated medical professionals, researchers, and others whose tireless efforts help save lives and make a difference for countless Americans. As we work together to fight this deadly disease, we recognize that every person can take action to reduce his or her risk for heart disease and make the decision to live a healthier life.

In acknowledgement of the importance of the ongoing fight against cardiovascular disease, the Congress, by Joint Resolution approved December 30, 1963, as amended (77 Stat. 843; 36 U.S.C. 101), has requested that the President issue an annual proclamation designating February as “American Heart Month.”

NOW, THEREFORE, I, GEORGE W. BUSH, President of the United States of America, do hereby proclaim February 2008 as American Heart Month, and I invite all Americans to participate in National Wear Red Day on February 1, 2008. I also invite the Governors of the States, the Commonwealth of Puerto Rico, officials of other areas subject to the jurisdiction of the United States, and the American people to join me in recognizing and reaffirming our commitment to fighting cardiovascular disease.

IN WITNESS WHEREOF, I have hereunto set my hand this first day of February, in the year of our Lord two thousand eight, and of the Independence of the United States of America the two hundred and thirty-second.

[FR Doc. 08-546

Filed 2-4-08; 11:21 am]

Billing code 3195-01-P